DEPARTMENT OF DEFENSE

Office of the Secretary

Defense Partnership Council Meeting

AGENCY: Department of Defense.

ACTION: Notice of Meeting Cancellation.

SUMMARY: On October 12, 2000, 65 FR 60652, the Department of Defense published a notice to announce a meeting of the Defense Partnership Council to be held November 9, 2000. This notice is to announce that the meeting is cancelled due to conflicts in members' schedules.

FOR FURTHER INFORMATION CONTACT: Mr. Ben James, Chief, Labor and Employee Relations Branch, Field Advisory Services Division, Defense Civilian Personnel Management Service, 1400 Key Boulevard, Suite B-200, Arlington, VA 22209-5144, (703) 696-1450.

Dated: November 6, 2000.
L.M. Bynum,
Alternate OSD Federal Register Liaison Officer, DoD.

[FR Doc. 00-28865 Filed 11-9-00; 8:45 am]

BILLING CODE 5001-10-M